DEPARTMENT OF COMMERCE

International Trade Administration

[C-570-052]

Countervailing Duty Investigation of Certain Hardwood Plywood Products From the People's Republic of China: Postponement of Preliminary Determination

AGENCY: Enforcement and Compliance International Trade Administration, Department of Commerce.

DATES: Effective January 27, 2017.

FOR FURTHER INFORMATION CONTACT: Justin Neuman at (202) 482-0486, or Matthew Renkey at (202) 482-2312, AD/CVD Operations, Office V, Enforcement and Compliance, International Trade Administration, U.S. Department of Commerce, 1401 Constitution Avenue NW., Washington, DC 20230.

SUPPLEMENTARY INFORMATION:

Background

On December 8, 2016, the Department of Commerce (Department) initiated the countervailing duty investigation of certain hardwood plywood products (hardwood plywood) from the People's Republic of China (PRC).¹ Currently, the preliminary determination is due no later than February 13, 2017.²

¹ See Certain Hardwood Plywood Products from People's Republic of China: Initiation of Countervailing Duty Investigation, 81 FR 91131 (December 16, 2016) (Initiation).

² The due date actually falls on February 11, 2017, which is a Saturday. Therefore, the deadline moves to the next business day, February 13, 2017. See Notice of Clarification: Application of “Next Business Day” Rule for Administrative Determination Deadlines Pursuant to the Tariff Act of 1930, as Amended, 70 FR 24533 (May 10, 2008).

Postponement of Due Date for the Preliminary Determination

Section 703(b)(1) of the Tariff Act of 1930, as amended (Act), requires the Department to issue the preliminary determination in a countervailing duty investigation within 65 days after the date on which the Department initiated the investigation. However, in accordance with 19 CFR 351.205(e), section 703(c)(1) of the Act permits the Department to postpone the preliminary determination until no later than 130 days after the date on which the Department initiated the investigation if, among other reasons, Petitioners ³ make a timely request for a postponement, or the Department concludes that the parties concerned are cooperating and determines that the investigation is extraordinarily complicated. Under 19 CFR 351.205(e), petitioners must submit a request for postponement 25 days or more before the scheduled date of the preliminary determination and must state the reason for the request. The Department will grant the request unless it finds compelling reasons to deny the request.⁴

³ In this investigation, Petitioners are the Coalition for Fair Trade in Hardwood Plywood and its individual members: Columbia Forest Products; Commonwealth Plywood Co., Ltd.; Murphy Plywood; Roseburg Forest Products Co.; States Industries LLC; and Timber Products Company.

⁴ See 19 CFR 351.205(e).

In the instant investigation, Petitioners made a timely request, on January 17, 2017, that we postpone the preliminary CVD determination.⁵ In accordance with 19 CFR 351.205(e), Petitioner has stated the reason for requesting a postponement of the preliminary determination, and the Department finds no compelling reason to deny the request. Therefore, pursuant to section 703(c)(1)(A) of the Act, we are extending the due date for the preliminary determination to no later than 130 days after the date on which this investigation was initiated, i.e., to April 17, 2017. Pursuant to section 705(a)(1) of the Act and 19 CFR 351.210(b)(1), the deadline for the final determination will continue to be 75 days after the date of the preliminary determination.

⁵ See Petitioners' letter of January 17, 2017, requesting postponement of the preliminary determination.

This notice is issued and published pursuant to section 703(c)(2) of the Act and 19 CFR 351.205(f)(1).

Dated: January 18, 2017.
Paul Piquado,
Assistant Secretary for Enforcement and Compliance.

[FR Doc. 2017-01860 Filed 1-26-17; 8:45 am]

BILLING CODE 3510-DS-P